DEPARTMENT OF HOMELAND SECURITY

Coast Guard

33 CFR Part 138

[USCG-2005-21780]

RIN 1625-AA98

Financial Responsibility for Water Pollution (Vessels) and OPA 90 Limits of Liability (Vessels and Deepwater Ports)

AGENCY: Coast Guard, DHS.

ACTION: Announcement of Office of Management and Budget (OMB) approval of collection of information.

SUMMARY: The Coast Guard is announcing that the collection of information requirement under 33 CFR 138.85, entitled “Financial Responsibility for Water Pollution (Vessels),” has been approved by OMB under the Paperwork Reduction Act of 1995. The OMB control number is 1625-0046.

DATES: The collection of information requirement under 33 CFR 138.85 will be enforced from September 9, 2009.

FOR FURTHER INFORMATION CONTACT: If you have questions on this document contact Mr. Benjamin White, National Pollution Funds Center, Coast Guard, telephone 202-493-6863, e-mail Benjamin.H.White@uscg.mil. If you have questions on viewing the docket (USCG-2005-21780), call Ms. Renee V. Wright, Program Manager, Docket Operations, telephone 202-366-9826.

SUPPLEMENTARY INFORMATION: On September 17, 2008, the Coast Guard published a final rule entitled “Financial Responsibility for Water Pollution (Vessels) and OPA 90 Limits of Liability (Vessels and Deepwater Ports)” (73 FR 53691) (COFR final rule), amending the Oil Pollution Act of 1990 (OPA 90) financial responsibility requirements, including the information collection requirements under 33 CFR 138.85. With the exception of this collection of information, the COFR final rule became effective on October 17, 2008.

This information collection under 33 CFR 138.85 requires operators of vessels to establish evidence of financial responsibility under OPA 90, 33 U.S.C. 2716, acceptable to the Director, National Pollution Funds Center, in an amount equal to or greater than the total applicable amounts determined under 33 CFR 138.80(f). As required by the Paperwork Reduction Act of 1995 (44 U.S.C. 3501-3520), the COFR final rule preamble stated that the Coast Guard would not enforce the collection of information requirements under 33 CFR 138.85 until the collection of information request was approved by OMB, and the Coast Guard published a notice in the Federal Register announcing that OMB approved and assigned a control number for the requirement.

The Coast Guard submitted the information collection request under § 138.85 of the COFR final rule to OMB for approval in accordance with the Paperwork Reduction Act of 1995. On July 15, 2009, OMB approved the collection of information and assigned the collection OMB Control Number 1625-0046 entitled “Financial Responsibility for Water Pollution (Vessels), (33 CFR 138.85).” The approval for this collection of information expires on July 31, 2012. A copy of the OMB notice of action is available in our online docket at http://www.regulations.gov.

Dated: September 1, 2009.
Craig A. Bennett,
Director, National Pollution Funds Center, U.S. Coast Guard.

[FR Doc. E9-21442 Filed 9-8-09; 8:45 am]

BILLING CODE 4910-15-P